DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Basic Requirements for Special Exemption Permits and Authorizations to Take, Import, and Export Marine Mammals, Threatened and Endangered Species, and for Maintaining a Captive Marine Mammal Inventory Under the Marine Mammal Protection, the Fur Seal, and the Endangered Species Acts (formerly, Basic Requirements for All Marine Mammal Special Exception Permits to Take, Import and Export Marine Mammals, and for Maintaining a Captive Marine Mammal Inventory under the Marine Mammal Protection Act, the Fur Seal Act, and the Endangered Species Act).

Form Number(s): None.

OMB Approval Number: 0648-0084.

Type of Request: Regular submission.

Burden Hours: 6,728.

Number of Respondents: 518.

Average Hours Per Response: Scientific research and enhancement (SR/EN) permits, 32 hours; public display permits, 20 hours; photography and general authorization permits, 10 hours; amendments to existing permits and authorizations: major, 20 hours; minor, 3 hours; reports for SR/EN authorizations, 12 hours; reports for public display, photography and public display authorizations, 2 hours, reports for general authorizations, 8 hours; recordkeeping for all authorizations and notifications of retaining or transfering rehabilitated animals, 2 hours.

Needs and Uses: The information in this collection instrument will be used to determine whether a proposed activity is consistent with the requirements of the Marine Mammal Protection Act, the Fur Seal Act, and the Endangered Species Act for issuance of permits and authorizations for research, enhancement, photography, and public display. The respondents will be researchers, photographers, other members of the general public, and holders of marine mammals in captivity.

Affected Public: Individuals or households; not-for-profit institutions; business or other for-profit organizations; State, Local or Tribal Government; Federal Government.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 6, 2006.
Gwellnar Banks,
Management Analyst, Office of the Chief Information Officer.

[FR Doc. E6-10895 Filed 7-11-06; 8:45 am]

BILLING CODE 3510-22-P